NATIONAL SCIENCE FOUNDATION

Advisory Panel for Cognitive, Psychological Language Sciences; Notice of Meetings

In accordance with the Federal Advisory Committee Act (Pub. L. 92-463, as amended), the National Science Foundation (NSF) announces the following five meetings of the Advisory Panel for Cognitive, Psychological and Language Sciences (#1758):

1. Date and Time: March 31, 2000; 9:00 a.m.-3:00 p.m.

Place: National Science Foundation, 4201 Wilson Blvd, Room 950, Arlington, VA.

Type of Meeting: Part-Open.

Contact Person: Dr. Catherine N. Ball, Program Director for Linguistics, National Science Foundation, 4201 Wilson Boulevard, Suite 995, Arlington, VA 22230. Telephone: (703) 306-1731.

Agenda: Closed Session: March 31, 9 a.m.-2 p.m.—To review and evaluate linguistics dissertation proposals as part of the selection process for awards.

Agenda: Open Session: March 31, 2000, 2:00 p.m.-3:00 p.m.—General discussion of the current status and future plans of Linquistics Dissertations.

2. Date and Time: April 12-14, 2000; 9 a.m.-6:30 p.m.

Place: National Science Foundation, 4201 Wilson Blvd, Room 320, Arlington, VA.

Type of Meeting: Part-Open.

Contact Person: Dr. Catherine N. Ball, Program Director for Linguistics, National Science Foundation, 4201 Wilson Boulevard, Suite 995, Arlington, VA 22230. Telephone: (703) 306-1731.

Agenda: Closed Session: April 12, 9 a.m.-6:30 p.m.; April 13, 9:00 a.m.-6:30 p.m.; and April 14, 9:00 a.m.-1:00 p.m.—to review and evaluate linguistics proposals as part of the selection process for awards.

Agenda: Open Session: April 14, 2000, 1:00 p.m.-3:00 p.m.—General discussion of the current status and future plans of Linquistics.

3. Date and Time: April 24-26, 2000; 8:30 a.m.-5:30 p.m.

Place: National Science Foundation, 4201 Wilson Blvd, Room 950, Arlington, VA.

Type of Meeting: Part-Open.

Contact Person: Dr. Rodney R. Cocking, Program Director for Human Cognition and Perception, National Science Foundation, 4201 Wilson Boulevard, Suite 995, Arlington, VA 22230. Telephone: (703) 306-1732.

Agenda: Closed Session: April 24, 8:30 a.m.-5:30 p.m.; April 25, 8:30 a.m.-5:30 p.m.; April 26, 8:30 a.m.-2:30 p.m.—To review and evaluate Human Cognition and Perception proposals as part of the selection process for awards.

Agenda: Open Session: April 26, 2000, 2:30 p.m.-5:30 p.m.—General discussion of the current status and future plans of Human Cognition and Perception.

4. Date and Time: May 7, 2000; 3 p.m.-7 p.m. May 8-9, 2000; 8:30 a.m.-5:30 p.m.

Place: National Science Foundation, 4201 Wilson Blvd, Room 365, Arlington, VA.

Type of Meeting: Part-Open.

Contact Person: Dr. Diane Scott-Jones, Program Director for Child Learning and Development, National Science Foundation, 4201 Wilson Boulevard, Suite 995, Arlington, VA 22230. Telephone: (703) 306-1732.

Agenda: Closed Session: May 7, 3 p.m.-7 p.m.; May 8, 8:30 a.m.-3 p.m. and 4 p.m.—5:30 p.m.; May 9, 8:30 a.m.-5:30 p.m.—To review and evaluate Child Learning and Development proposals as part of the selection process of awards.

Agenda: Open Session: May 8, 2000, 3 p.m.-4 p.m.— General discussion of current status and future plans of Child Learning Development.

5. Date and Time: May 17-19, 2000; 8:30 a.m.-5:30 p.m.

Place: National Science Foundation, 4201 Wilson Blvd, Room 970, Arlington, VA.

Type of Meeting: Part-Open.

Contact Person: Dr. Steven J. Breckler, Program Director for Social Psychology, National Science Foundation, 4201 Wilson Boulevard, Suite 995, Arlington, VA 22230. Telephone: (703) 306-1728.

Agenda: Closed Session: May 17, 8:30 a.m.-5:30 p.m.; May 18, 8:30 a.m.-1:00 p.m.; and 2:00 p.m.-5:30 p.m.; May 19, 8:30 a.m.-5:30 p.m.—To review and evaluate social psychology proposals as part of the selection process for awards.

Agenda: Open Session: May 18, 2000, 1 p.m.-2 p.m.—General discussion of the current status and future plans of Social Psychology.

Purpose of Meetings: To provide advice and recommendations concerning support for research proposals submitted to the National Science Foundation for financial support.

Reason for Closing: The proposals being reviewed include information of a proprietary or confidential nature, including technical information; financial data, such as salaries, and personal information concerning individuals associated with the proposals. These matters are exempt under 5 U.S.C. 552b(c), (4) and (6) of the Government in the Sunshine Act.

Dated: March 6, 2000.
Karen J. York,
Committee Management Officer.

[FR Doc. 00-5872 Filed 3-9-00; 8:45 am]

BILLING CODE 7555-01-M